DEPARTMENT OF JUSTICE

Notice of Lodging of Consent Decree Pursuant to the Comprehensive Environmental Response, Compensation, and Liability Act

In accordance with Departmental policy, 28 CFR 50.7, notice is hereby given that on February 19, 2004 a proposed Consent Decree in United States v. J.B. Stringfellow, Jr. et al., Civil Action No. 83-2501 (R), was lodged with the United States District Court for the Central District of California. The Complaint in this action was brought pursuant to, inter alia, the Comprehensive Environmental Response, Compensation, and Liability Act, 42 U.S.C. 9601 et seq., to recover costs incurred in connection with remedial activities at the Stringfellow Superfund Site in Riverside, California, and to obtain injunctive relief requiring the defendants to take further remedial actions at the Site.

The proposed Consent Decree resolves issues arising out of the implementation of a 1992 Consent Decree, requires payment to the United States of approximately $1.6 million as reimbursement for costs of response at the Site, and resolves the claims as to all but one party of this action.

The Department of Justice will receive, for a period of thirty (30) days from the date of this publication, comments relating to the proposed Consent Decree. Comments should be addressed to the Assistant Attorney General of the Environment and Natural Resources Division, Department of Justice, P.O. Box 7611, Ben Franklin Station, Washington, DC 20044. Comments should refer to United States v. J.B. Stringfellow, Jr. et al., Civil Action No. 83-2501 (R), D.J. Ref. No. 90-11-2-24.

The proposed Consent Decree may be examined at either of the following locations: (1) The Office of the United States Attorney, Central District of California, Federal Building, Room 7516, 300 North Los Angeles Street, Los Angeles, California; or (2) Office of Regional Counsel, Environmental Protection Agency, 75 Hawthorne St., San Francisco, California. During the public comment period, the Consent Decree may also be examined on the following Department of Justice Web site, http://www.usdoj.gov/enrd/open.html. A copy of the consent decree can be obtained by mail from the Department of Justice Consent Decree Library, P.O. Box 7611, Washington, DC 20044 or by faxing or e-mailing a request to Tonia Fleetwood (tonia.fleetwood@usdoj.gov), fax no. (202) 514-0097, phone confirmation number (202) 514-1547. In requesting a copy of the consent decree, please enclose a check in the amount of $11.50 (25 cents per page reproduction cost) payable to the U.S. Treasury.

Maureen M. Katz,
Assistant Section Chief, Environmental Enforcement Section.

[FR Doc. 04-6061 Filed 3-17-04; 8:45 am]

BILLING CODE 4410-15-M